DEPARTMENT OF STATE

[Public Notice: 11159]

Commission on Unalienable Rights; Notice of Open Meeting; Correction

AGENCY: Department of State.

ACTION: Notice; correction.

SUMMARY: The Department of State published a document in the Federal Register of July 2, 2020, announcing a meeting of the Commission on Unalienable Rights, and is hereby correcting information concerning the times for the Commission meeting.

FOR FURTHER INFORMATION CONTACT: Duncan Walker, Policy Planning Staff, Department of State, (202) 647-2236/3490.

SUPPLEMENTARY INFORMATION: Correction in the Federal Register of July 2, 2020, in FR Doc. 2020-14339, on page 39967, in the first column, correct the first paragraph to read:

“The Members of the Commission on Unalienable Rights (`Commission') will meet from 4:00 p.m. until 5:00 p.m., to present the Commission's proposed Report to the public. The meeting will be in Philadelphia at the National Constitution Center, 525 Arch Street, Independence Mall. Doors will open at 3:30 p.m.”

Duncan H. Walker,
Designated Federal Officer, Department of State.

[FR Doc. 2020-15414 Filed 7-15-20; 8:45 am]

BILLING CODE 4710-10-P